DEPARTMENT OF ENERGY

Federal Energy Regulatory Commission

[Docket Nos. EL13-61-000, QF05-114-005, QF05-116-005, QF05-115-005, QF03-13-006, QF06-289-005, QF06-290-005, QF07-46-005, QF07-53-005, QF07-54-005, QF07-55-005, QF07-56-005, QF07-257-004]

Exelon Corporation, Exelon Wind 1, LLC, Exelon Wind 2, LLC, Exelon Wind 3, LLC, Exelon Wind 4, LLC, Exelon Wind 5, LLC, Exelon Wind 6, LLC, Exelon Wind 7, LLC, Exelon Wind 8, LLC, Exelon Wind 9, LLC, Exelon Wind 10, LLC, Exelon Wind 11, LLC, High Plains Wind Power, LLC v. Xcel Energy Services, Inc., Southwestern Public Service Company; Notice of Complaint and Petition for Enforcement

Take notice that on May 9, 2013, pursuant to sections 206 and 207(a)(2) of the Rules of Practice and Procedure of the Federal Energy Regulatory Commission (Commission) 18 CFR 385.206 and 385.207(a)(2), sections 206 and 306 of the Federal Power Act, 16 U.S.C. 824(e) and 825(e), and section 210 of the Public Utility Regulatory Policies Act of 1978 (PURPA), Exelon Corporation, on behalf of its subsidiaries Exelon Wind 1, LLC, Exelon Wind 2, LLC, Exelon Wind 3, LLC, Exelon Wind 4, LLC, Exelon Wind 5, LLC, Exelon Wind 6, LLC, Exelon Wind 7, LLC, Exelon Wind 8, LLC, Exelon Wind 9, LLC, Exelon Wind 10, LLC, Exelon Wind 11, LLC, and High Plains Wind Power, LLC (Complainants) filed a formal complaint and petition for enforcement requesting that the Commission find that Xcel Energy Services Inc., and its operating subsidiary, Southwestern Public Service Company (Respondents) violated PURPA and Commission's regulations. Complainants requests that the Commission exercise its authority and initiate enforcement action against Respondents.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on May 30, 2013.

Dated: May 13, 2013.
Kimberly D. Bose,
Secretary.

[FR Doc. 2013-11886 Filed 5-17-13; 8:45 am]

BILLING CODE 6717-01-P